DEPARTMENT OF COMMERCE

National Oceanic and Atmospheric Administration

50 CFR Parts 600 and 660

[Docket No. 001226367-0367-01; I.D. 121500E]

Fisheries off West Coast States and in the Western Pacific; Pacific Coast Groundfish Fishery; Annual Specifications and Management Measures; Corrections; Trip Limit Adjustments

AGENCY: National Marine Fisheries Service (NMFS), National Oceanic and Atmospheric Administration (NOAA), Commerce.

ACTION: Trip limit adjustments; correction to the 2001 specifications; fishing restrictions for the Pacific Coast groundfish fishery; request for comments.

SUMMARY: NMFS announces changes in the following trip limits for the Pacific Coast groundfish fisheries north and south of 40°10′ N. lat.: limited entry trawl for flatfish north, limited entry fixed gear and open access for minor nearshore rockfish north, open access for minor nearshore rockfish south, and open access for yellowtail rockfish taken with salmon troll gear. These actions, which are authorized by the Pacific Coast Groundfish Fishery Management Plan (FMP) are intended to help the fisheries achieve optimum yield (OY) while protecting overfished and depleted stocks. This document also contains corrections relating to the lingcod and boccacio OYs, which were initially announced in the annual specifications and management measures that were published on January 11, 2001.

DATES: Changes to management measures are effective 0001 hours (local time) May 1, 2001, unless modified, superseded, or rescinded. These changes are effective until the effective date of the 2002 annual specifications and management measures for the Pacific Coast groundfish fishery, which will be published in the Federal Register. Comments on this rule will be accepted through May 21, 2001.

ADDRESSES: Submit comments to Donna Darm, Acting Administrator, Northwest Region (Regional Administrator), NMFS, 7600 Sand Point Way N.E., Bldg. 1, Seattle, WA 98115-0070; or Rebecca Lent, Administrator, Southwest Region, NMFS, 501 West Ocean Blvd., Suite 4200, Long Beach, CA 90802-4213.

FOR FURTHER INFORMATION CONTACT: Yvonne deReynier or Becky Renko, Northwest Region, NMFS, 206-526-6140.

SUPPLEMENTARY INFORMATION: The following changes to current management measures were recommended by the Pacific Fishery Management Council (Council,) in consultation with the States of Washington, Oregon, and California, at its April 2-6, 2001, meeting in Sacramento, CA. Pacific Coast groundfish landings will be monitored throughout the year, and further adjustments to the trip limits will be made as necessary to stay within the OYs and allocations announced in the annual specifications and management measures for the groundfish fishery, published in the Federal Register at 66 FR 2338, (January 11, 2001), as amended at 66 FR 10211, (February 14, 2001), and at 66 FR 18409, (April 9, 2001).

Limited Entry Trawl Gear Limits for Flatfish North of 40°10′ N. Lat.

A preliminary examination of trawl fleet tow locations from vessel logbook data for May to October 2000 indicates that the fleet has relocated arrowtooth flounder and other flatfish trawl activities away from areas of high canary bycatch. Based on this preliminary examination, the Council recommended increasing previously announced limits for flatfish other than Dover sole. The per month limit for all flatfish except Dover sole taken with a small footrope trawl gear for the May to October period was previously announced as 30,000 lb (13,608 kg). For the May to June period, the limit will be increased to a 50,000-lb (22,680 kg) per month limit for all flatfish except Dover sole, of which no more than 15,000 lb (6,804 kg) may be petrale sole and no more than 10,000 (4,536 kg) may be arrowtooth flounder. For the July to October period, the per month limit for all flatfish except Dover sole taken with a small footrope trawl gear will be 30,000 lb (13,608 kg) as previously announced.

With respect to the incidental catch of canary rockfish, this limit change is more conservative than the previously announced limit that allowed up to 30,000 lb (13,608 kg) of petrale sole or arrowtooth flounder to be landed. Trawl vessels are more likely to encounter canary rockfish when targeting petrale sole and arrowtooth flounder than other flatfish species. Lowering the limits for petrale sole and arrowtooth flounder are expected to reduce opportunities for vessels to take canary rockfish.

The per trip limit for arrowtooth flounder taken with large footrope trawl gear during the January to April periods has been at 20,000 lb (9,072 kg) and was to be reduced to 5,000 lb (2,268 kg) for the May to October period. To provide additional opportunity to harvest arrowtooth flounder and to encourage the harvest of Dover sole on the slope during the month of May, the large footrope trawl allowance for arrowtooth flounder will be set at 15,000 lb (6,804 kg) per trip for May. For the June to October period, the arrowtooth flounder limit will be reduced to 5,000 lb (2,268 kg) per trip as previously announced.

Limited Entry Fixed Gear and Open Access Minor Nearshore Rockfish North of 40°10′ N. Lat.

During the 2000 fishery, more than 50 percent of the available commercial allocations of northern minor nearshore rockfish went unharvested. The limited entry fleet took only 19 percent of its minor nearshore rockfish allocation in 2000, while the open access fishery took approximately 74 percent of its allocation. The best available information at the April Council meeting indicated that limited entry fisheries north of 40°10′ N. lat. had landed 4.3 percent of the minor nearshore rockfish available to the fishery, and that open access fisheries had landed 6.6 percent of their minor nearshore rockfish allocation through February 2001.

Most limited entry fixed gear vessels tend to use open access vertical hook-and-line gear to catch these species, but when using open access gear, they are constrained by the lower open access limits. Operating under open access limits has slowed the pace of harvest by limited entry vessels. The current limited entry fixed gear limit for minor nearshore rockfish north is 10,000 lb (4,536 kg) per 2-month period, no more than 4,000 lb (1,814 kg) of which may be species other than black or blue rockfish. The current open access limit for minor nearshore rockfish north is 3,000 lb (1,361 kg) per 2-month period, no more than 900 lb (408 kg) of which may be species other than black or blue rockfish.

To provide greater access to the allowable harvest levels, the Council recommended applying similar limits to both the limted entry fixed gear and open access portions of the fishery. To provide benefits to both segments of the fishery, without adversely affecting either group, and to reduce the risk of an early open access closure, the Council also recommended managing the limited entry and open access nearshore rockfish allocations collectively in 2001. For the May to December period, the limited entry fixed gear limit for minor nearshore rockfish north will be reduced to 7,000 lb (3,175 kg) per 2-month period, no more than 4,000 lb (1,814 kg) of which may be species other than black or blue rockfish. The current open access limit for minor nearshore rockfish north will be increased to 7,000 lb (3,175 kg) per 2-month period, no more than 900 lb (408 kg) of which may be species other than black or blue rockfish. Maintaining the current limits of species other that black or blue rockfish is intended to prevent excess harvest of species commonly associated with the live-fish fishery.

Open Access Fishery for Minor Nearshore Rockfish South of 40°10′ N. Lat.

The best available information at the April Council meeting indicated that 24.4 percent of the open access minor nearshore rockfish allocation south of 40 o10′ N. lat. fishery had been taken through February 2001. To slow the pace of the fishery and to ensure an open season in late fall when the markets are most desirable, the Council recommended reducing the cumulative limits. The 2-month cumulative limit for the fishery south of 34o 27′ N. lat. was previously announced as 1,800 lb (816 kg) for the March to December period. This limit will be reduced to 1,200 lb (544 kg) per 2 months. The 2-month cumulative limit for the fishery occurring between 40°10′ N. lat. and 34o 27′ N. lat. was previously announced as 1,800 lb (816 kg) shoreward of the 20 fathom depth contour for the May to June period. This limit will be reduced to 1,200 lb (544 kg) per 2 months shoreward of the 20 fathom depth contour for the May to June period; otherwise, this area is closed to nearshore rockfish until July 1, 2001. For the July to December period, the 2-month cumulative limit for the fishery occurring south of 40°10′ N. lat. will be reduced from the previously announced 1,800 lb (816 kg) to 1,200 lb (544 kg).

Open Access for Yellowtail Rockfish Taken With Salmon Troll Gear North of 40°10′ N. Lat.

During the April Council meeting, Washington State salmon troll fishers requested that the Council consider increased monthly limits for yellowtail rockfish taken in the open access fishery north of 40°10′ N. lat. by vessels fishing for salmon with troll gear. Yellowtail rockfish is believed to be at 63 percent of its unfished biomass, and is therefore considered to be a healthy stock. Management measures aimed at protecting canary rockfish, which are often caught in association with yellowtail rockfish, have reduced the catch opportunity for yellowtail rockfish. Therefore, a portion of the yellowtail rockfish allocation is expected to be unharvested during the 2001 fishing year, as was the case in 2000.

The open access 1-month cumulative limit for yellowtail rockfish north is 100 lb (45 kg) for the January to December period. Analysis of landings data from 1997 to 1999, when yellowtail rockfish trip limits were higher, shows that an average of 50-75 lb (22.08-35.02 kg) per trip of yellowtail rockfish were landed by salmon troll vessels. Although the vast majority of deliveries contained no yellowtail rockfish, many individual trips contained more than 100 lb (45 kg). Correlations between yellowtail and canary rockfish were also examined, and it was found that there was not a particularly strong correlation between the two species when taken with salmon troll gear.

To allow the open access yellowtail rockfish allocation to be fully utilized while still protecting canary rockfish, the Council recommended that a monthly cumulative limit of 300 lb (136 kg) be established specifically for the salmon troll fishery. If a vessel fishes with more than one open access gear type, then this limit cannot be added to the general 100 lb (45 kg) per month open access limit. The Council believes that allowing existing yellowtail bycatch taken with salmon troll gear to b+e landed will not provide an additional incentive for salmon trollers to target yellowtail rockfish, thereby placing canary rockfish at a greater risk.

To prevent individuals who do not routinely catch much yellowtail rockfish with salmon from making trips to specifically target on yellowtail, vessels would be restricted from landing yellowtail (round weight) in amounts greater than one half the weight of the salmon (dressed weight) being landed.

Corrections to Lingcod and Boccacio Specifications

The 2001 fishery specifications and management measures for the Pacific Coast groundfish FMP were published in the Federal Register on January 11, 2001 (66 FR 2338). The specifications contained errors in the assumed discard rates for lingcod and boccacio that require correction. At the November 2000 Council meeting, the open access and limited entry landed catch targets for lingcod and boccacio that were presented to the Council did not include the discard deductions. The Council recommended that the oversight be corrected. A 16-percent discard adjustment will be made for boccacio and a 20-percent discard adjustment will be made for lingcod.

Corrections

In the annual specification and management measures published in the Federal Register at 66 FR 2338 (January 11, 2001), make the following corrections:

1. On page 2343, Table 1a, in footnote b/, the last sentence is corrected to read as follows: “The assumed discard rate in the limited entry fishery is 20 percent, resulting in a limited entry landed catch target of 163 mt. The open access landed catch target remains at 48 mt.”

2. On page 2345, Table 1a, in footnote n/ the last sentence is corrected to read as follows: “The assumed discard rate is 16 percent, resulting in a limited entry landed catch target of 24 mt and an open access landed catch target of 19 mt.”

NMFS Actions

For the reasons stated here, NMFS concurs with the Council’s recommendations and announces the following changes to the 2001 annual management measures (66 FR 2338, January 11, 2001, as amended at 66 FR 10211 February 14, 2001, and at 66 FR 18409 April 9, 2001) to read as follows:

1. In Section IV, under B. Limited Entry Fishery Tables 3 and 4 are revised; in Section IV, under C. Trip Limits in the Open Access Fishery, Table 5 is revised; and in Section IV, under C. paragraph(5) is revised to read as follows:

IV. NMFS Actions

B. Limited Entry Fishery

* * * * *

BILLING CODE 3510-22-S

* * * * *

C. Trip limits in the Open Access Fishery

* * * * *

* * * * *

(5) Groundfish taken with troll gear by vessels engaged in fishing for salmon north of 40° 10′ N. lat.(a) The cumulative limit for yellowtail rockfish in the open access fishery is 100 lb (45 kg) per month. If a vessel has reached its 100 lb (45 kg) yellowtail cumulative limit, up to 200 lb (91 kg) per month of additional yellowtail rockfish may be taken and retained, possessed or landed, providing the following conditions are met: in any trip in which salmon troll gear, as defined at 50 CFR 660.402, is used to take and land yellowtail rockfish and, no more than one lb (.45 kg) of yellowtail rockfish (round weight) is landed for every two lbs (.91 kg) of salmon landed (dressed weight). Dressed weight for purposes of this paragraph is the weight of salmon that is recorded on the State fish ticket and is salmon with the entrails removed, from which the head and gills may or may not have been removed.

(b) The trip limits in Table 5 apply to all other groundfish taken with troll gear by vessels fishing for salmon.

* * * * *

Classification

These actions are authorized by the regulations implementing the FMP and the annual specifications and management measures published at 66 FR 2369 (January 11, 2001) and are based on the most recent data available.

NMFS finds good cause to waive the requirement to provide prior notice and comment on this action pursuant to 5 U.S.C. 553(b)(B), because providing prior notice and opportunity for comment would be impracticable. It would be impracticable because the cumulative limit period begins on May 1, 2001, and affording additional notice and opportunity for public comment would impede the due and timely execution of the agency’s function of managing fisheries to achieve OY. Increases to trip limits relieve burdens on the public and decreases to trip limits must be implemented in a timely manner to stretch the season as long as possible through the year. In addition, the affected public had the opportunity to comment on these actions at the April 2-6, 2001 Council meeting. This action should be implemented before the beginning of the cumulative trip limit period to avoid confusion and to provide fishers the opportunity to achieve the trip limits. For these reasons, good cause also exists to waive the 30-day delay in effectiveness under 5 U.S.C. 553(d)(3).

These actions are taken under the authority of 50 CFR 660.323(b)(1), and are exempt from review under Executive Order 12866.

Authority: 16 U.S.C. 1801 et seq.

Dated: April 30, 2001.
Bruce C. Morehead,
Acting Director, Office of Sustainable Fisheries, National Marine Fisheries Service.

[FR Doc. 01-11297 Filed 5-1-01; 4:48 pm]

BILLING CODE 3510-22-S